FEDERAL EMERGENCY MANAGEMENT AGENCY

44 CFR Part 65

[Docket No. FEMA-7309]

Changes in Flood Elevation Determinations

AGENCY: Federal Emergency Management Agency, FEMA.

ACTION: Interim rule.

SUMMARY: This interim rule lists communities where modification of the base (1% annual chance) flood elevations is appropriate because of new scientific or technical data. New flood insurance premium rates will be calculated from the modified base flood elevations for new buildings and their contents.

DATES: These modified base flood elevations are currently in effect on the dates listed in the table and revise the Flood Insurance Rate Map(s) (FIRMs) in effect prior to this determination for each listed community.

From the date of the second publication of these changes in a newspaper of local circulation, any person has ninety (90) days in which to request through the community that the Associate Director reconsider the changes. The modified elevations may be changed during the 90-day period.

ADDRESSES: The modified base flood elevations for each community are available for inspection at the office of the Chief Executive Officer of each community. The respective addresses are listed in the following table.

FOR FURTHER INFORMATION CONTACT: Matthew B. Miller, P.E., Chief, Hazards Study Branch, Mitigation Directorate, Federal Emergency Management Agency, 500 C Street SW., Washington, DC 20472, (202) 646-3461, or (email) matt.miller@fema.gov.

SUPPLEMENTARY INFORMATION: The modified base flood elevations are not listed for each community in this interim rule. However, the address of the Chief Executive Officer of the community where the modified base flood elevation determinations are available for inspection is provided.

Any request for reconsideration must be based upon knowledge of changed conditions, or upon new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified base flood elevations are the basis for the floodplain management measures that the community is required to either adopt or to show evidence of being already in effect in order to qualify or to remain qualified for participation in the National Flood Insurance Program.

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

The changes in base flood elevations are in accordance with 44 CFR 65.4.

National Environmental Policy Act

This rule is categorically excluded from the requirements of 44 CFR Part 10, Environmental Consideration. No environmental impact assessment has been prepared.

Regulatory Flexibility Act

The Associate Director, Mitigation Directorate, certifies that this rule is exempt from the requirements of the Regulatory Flexibility Act because modified base flood elevations are required by the Flood Disaster Protection Act of 1973, 42 U.S.C. 4105, and are required to maintain community eligibility in the National Flood Insurance Program. No regulatory flexibility analysis has been prepared.

Regulatory Classification

This interim rule is not a significant regulatory action under the criteria of section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of section 2(b)(2) of Executive Order 12778.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Alabama: Morgan | City of Decatur | January 25, 2000, February 1, 2000, The Decatur Daily News | The Honorable Julian Price, Mayor of the City of Decatur, P.O. Box 488, Decatur, Alabama 35602 | May 1, 2000 | 010176 D
Alabama: Jefferson | City of Homewood | April 28, 1999, May 5, 1999, Birmingham News | The Honorable Barry R. McCulley, Mayor of the City of Homewood, P.O. Box 59666, Homewood, Alabama 35259 | Apr. 21, 1999 | 015006 D
Florida: Charlotte | Unincorporated Areas | May 10, 1999, May 17, 1999, Charlotte Herald Sun | Mr. Jan Winters, Charlotte County Administrator, 18500 Murdock Circle, Room 536, Port Charlotte, Florida 33948-1094 | Apr. 30, 1999 | 120061 D&E
Georgia: Bartow | City of Cartersville | February 17, 2000, February 24, 2000, The Daily Tribune News | The Honorable Sam C. Smith, Mayor of the City of Cartersville, 1 North Erwin Street, P.O. Box 1390, Cartersville, Georgia 30120 | May 24, 2000 | 130209 F
Georgia: Bartow | Unincorporated Areas | February 17, 2000, February 24, 2000, The Daily Tribune News | Mr. Clarence Brown, Bartow County Commissioner, 135 West Cherokee Avenue, Suite 251, Cartersville, Georgia 30120 | May 24, 2000 | 130463 F
Georgia: Catoosa | Unincorporated Areas | March 8, 2000, March 15, 2000, Catoosa County News | Mr. Jim Callaway, Catoosa County Manager, Catoosa County Courthouse, 7694 Nashville Street, Ringgold, Georgia 30736 | Feb. 28, 2000 | 130028 D
Georgia: Chatham | Unincorporated Areas | March 13, 2000, March 20, 2000, Savannah Morning News | Dr. Billy Hair, Chairman of the Chatham County Board of Commissioners, 124 Bull Street, P.O. Box 8161, Savannah, Georgia 31412 | June 18, 2000 | 130030 C
Georgia: Chatham | Town of Pooler | March 13, 2000, March 20, 2000, Savannah Morning News | The Honorable Earl Carter, Mayor of the Town of Pooler, 100 Southwest Highway 80, Pooler, Georgia 31322 | June 18, 2000 | 130261 A
Georgia: Gwinnett | Unincorporated Areas | January 12, 2000, January 19, 2000, Gwinnett Daily Post | Mr. Wayne Hill, Chairman of the Gwinnett County, Board of Commissioners 75 Langley Drive, Lawrenceville, Georgia 30045 | Dec. 29, 1999 | 130322 C
Illinois: DuPage | Unincorporated Areas | March 10, 2000, March 17, 2000, Daily Herald | Mr. Robert J. Schillerstrom, Chairman, DuPage County Board, DuPage Center, 421 North Country Farm Road, Wheaton, Illinois 60187 | Mar. 3, 2000 | 170197 B
Illinois: Cook & DuPage | Village of Hanover Park | May 25, 1999, June 1, 1999, Elgin Courier News & The Daily Herald | Mr. Irwin Boch, Village of Hanover Park President, 2121 West Lake Street, Hanover Park, Illinois 60103-4398 | May 18, 1999 | 170099 D
Illinois: Cook | Village of Indian Head Park | February 9, 2000, February 16, 2000, Suburban Life Citizen | Mr. Richard S. Pellegrino, President of the Village of Indian Head Park, 201 Acacia Drive, Indian Head Park, Illinois 60525 | Feb. 3, 2000 | 170110 D
Illinois: Madison | Unincorporated Areas | January 7, 2000, January 14, 2000, The Intelligencer | Mr. Rudolph J. Papa, Madison County Board Chairman, Madison County Administration Building, 157 North Main Street, suite 165, Edwardsville, Illinois 62025-1964 | Dec. 28, 1999 | 170436 D
Illinois: Cook | Village of Schaumburg | January 5, 2000, January 12, 2000, Daily Herald | Mr. Al Larson, Schaumburg Village President, 101 Schaumburg Court, Schaumburg, Illinois 60193-1899 | Dec. 29, 1999 | 170158 D
Illinois: Cook | Village of Schaumburg | February 9, 2000, February 16, 2000, Daily Herald | Mr. Al Larson, Schaumburg Village President, 101 Schaumburg Court, Schaumburg, Illinois 60193-1899 | Feb. 1, 2000 | 170158 D
Illinois: Cook | Village of Streamwood | January 13, 2000, January 20, 2000, Daily Herald | Ms. Billie D. Roth, Streamwood Village President, Village Hall, 301 East Irving Park road, Streamwood, Illinois 60107 | Jan. 4, 2000 | 170166 D
Illinois: Will and Cook | Village of Tinley Park | March 8, 2000, March 15, 2000, Daily Southtown | The Honorable Edward J. Zabrocki, Mayor of the Village of Tinley Park, 16250 South Oak Park Avenue, Tinley Park, Illinois 60477 | Mar. 31, 2000 | 170169 C
Illinois: Madison | City of Wood River | January 7, 2000, January 14, 2000, The Telegraph | The Honorable Lon A. Smith, Mayor of the City of Wood River, 111 North Wood River Avenue, Wood River, Illinois 62095-1938 | Apr. 12, 2000 | 170451 C
Indiana: Elkhart | Unincorporated Areas | June 21, 1999, June 28, 1999, The Elkhart Truth | Mr. Amos J. Sheets, Elkhart County Commissioner, 1117 North Second Street, Goshen, Indiana 46526 | Sept. 26, 1999 | 180056 D
Indiana: Allen | City of Fort Wayne | January 7, 2000, January 14, 2000, The Journal Gazette | The Honorable Paul Helmike, Mayor of the City of Fort Wayne, 1 Main Street, Room 900, Fort Wayne, Indiana 46802-1804 | Dec. 29, 1999 | 180003 E
Indiana: Hancock | City of Greenfield | June 25, 1999, July 2, 1999, Daily Reporter | The Honorable Patricia Elmore, Mayor of the City of Greenfield, P.O. Box 456, Greenfield, Indiana 46140 | Sept. 30, 1999 | 180084 D
Indiana: Hendricks | Unincorporated Areas | March 9, 2000, March 16, 2000, Hendricks County Flyer | Mr. John D. Clampitt, President of the Hendricks, County Commissioners, 355 South Washington, No. 204, Danville, Indiana 46122 | June 14, 2000 | 180415 B
Kentucky: Daviess | Unincorporated Areas | June 1, 1999, June 8, 1999, Messenger Inquirer | The Honorable Reid Haire, Daviess County Judge/Executive, Daviess County Courthouse, P.O. Box 1716, Owenboro, Kentucky 42302-1716 | May 24, 1999 | 210062 D
Michigan: Macomb | Township of Macomb | January 4, 2000, January 11, 2000, The Macomb Daily | Mr. John D. Brennan, Macomb Township Supervisor, 19925 Twenty-Three Mile Road, Macomb, Michigan 48042 | Dec. 28, 1999 | 260445 B
New York: Madison | Town of Madison | January 12, 2000, January 19, 2000, Oneida Daily Dispatch | Mr. Bert L. Snyder, Madison Town Supervisor, P.O. Box 256, Hamilton, New York 13402-0256 | July 5, 2000 | 361292 D
New York: Niagara | City of Niagara Falls | January 13, 2000, January 20, 2000, Niagara Gazette | The Honorable James C. Galie, Mayor of the City of Niagara Falls, City Hall, 745 Main Street, Niagara Falls, New York 14302 | July 5, 2000 | 360506 C
New York: Seneca | Town of Seneca Falls | January 13, 2000, January 20, 2000, Finger Lake Times & The Reveille/Between the Lakes | Ms. Janette T. Pfeiff, Supervisor for the Town of Seneca Falls, 10 Fall Street, Seneca Falls, New York 13148 | July 5, 2000 | 360756 D
New York: Niagara | Town of Wheatfield | December 13, 1999, December 20, 1999 The Gazette | Mr. Timothy E. Demler, Town of Wheatfield Supervisor, 2800 Church Road, North Tonawanda, New York 14120-1099 | June 6, 2000 | 360513 D
North Carolina: Avery | Town of Banner Elk | January 6, 2000, January 13, 2000, The Mountain Times | The Honorable Deka Tate, Mayor of the Town of Banner Elk, Town Hall, P.O. Box 156, Banner Elk, North Carolina 28604 | Dec. 30, 1999 | 370011 D
North Carolina: Gaston | City of Gastonia | January 14, 2000, January 21, 2000, The Gaston Gazette | The Honorable Jeannie Stultz, Mayor of the City of Gastonia, P.O. Box 1748, 181 South Street, Gastonia, North Carolina 28053-1748 | Jan. 6, 2000 | 370100 D
North Carolina: Mecklenburg | Unincorporated Areas | January 4, 2000, January 11, 2000, The Charlotte Observer | Mr. Gerald G. Fox, Mecklenburg County Manager, 600 East 4th Street, Charlotte, North Carolina 28202-2835 | Apr. 9, 2000 | 370158 D
North Carolina: Mecklenburg | Unincorporated Areas | January 21, 2000, January 28, 2000, Charlotte Observer | Mr. Gerald G. Fox, Mecklenburg County Manager, 600 East 4th Street, Charlotte, North Carolina 28202-2835 | Jan.14, 2000 | 370158 D
North Carolina: Northampton | Unicorporated Areas | July 31, 1999, Roanoke-Chowan Daily News | Mr. William E. Daniels, Northampton County Manager, P.O. Box 808, Jackson, North Carolina 27845, | Sept. 29, 1999 | 370173 D
Ohio: Cuyahoga | City of Garfield Heights | March 16, 2000, March 23, 2000, Neighborhood News | The Honorable Thomas Longo, Mayor of the City of Garfield Heights, 5107 Turney Road, Garfield Heights, Ohio 44125 | June 21, 2000 | 390109 B
Ohio: Cuyahoga | City of Highland Heights | June 3, 1999, June 10, 1999, The Plain Dealer | The Honorable Fran Hogg, Mayor of the City of Highland Heights, 5827 Highland Road, Highland Heights, Ohio 44143 | Sept. 8, 1999 | 390110 D
Ohio: Lake | Unincorporated Areas | January 21, 2000, January 28, 2000, The Herald-News | Mr. Robert E. Aufuldish, President of the Lake County, Board of Commissioners, 105 Main Street, Painesville, Ohio 44077 | Jan.14, 2000 | 390771 C
Ohio: Shelby | Unincorporated Areas | February 10, 2000, February 17, 2000, The Sidney Daily News | Mr. Larry Klainhans, Chairman, Shelby County Board of Commissioners, 129 East Court Street, Suite 100, Sidney, Ohio 45365 | May 17, 2000 | 390503 C
Ohio: Montgomery | City of Trotwood | December 22, 1999, December 29, 1999, Trotwood Independent | The Honorable Sara Combs, Mayor of the City of Trotwood, 35 North Olive Road, Trotwood, Ohio 45426 | Mar. 28, 2000 | 390417 D
Pennsylvania: Berks | Township of Cumru | January 6, 2000, January 13, 2000, Reading Eagle/Times | Mr. William Shea, Township of Cumru Manager, 1775 Welsh Road, Mohnton, Pennsylvania 19540 | Apr. 11, 2000 | 420130 D
Pennsylvania: Berks | Borough of Kenhorst | January 6, 2000 January 13, 2000, Reading Eagle/Times | The Honorable Gerald P. Nally, Mayor of Borough of Kenhorst, 339 South Kenhorst Boulevard, Kenhorst, Pennsylvania 19607 | Apr. 11, 2000 | 420135 D
Pennsylvania: Montgomery | Township of Lower Merion | April 22, 1999 April 29, 1999, Main Line Times | Mr. David Latshaw, Manager of the Township of Lower Merion, 75 East Lancaster Avenue, Ardmore, Pennsylvania 19003 | July 28, 1999 | 420701 D
Pennsylvania: Chester | Township of Valley | February 8, 2000, February 15, 2000, The Daily Local News | Mr. Grover E. Koon, Chairperson, Township of Vallley Board of Supervisors, P.O. Box 467, Coatesville, Pennsylvania 19320 | Feb. 1, 2000 | 421206 D
South Carolina: York | Unincorporated Areas | May 27, 1999, June 3, 1999, The Yorkville Enquirer | Mr. Carl Gullick, Chairman of the York County Council, P.O. Box 66, York, South Carolina 29745 | Sept. 1, 1999 | 450193 D
Tennessee: Selby | Town of Collierville | March 23, 2000, March 30, 2000, The Collierville Herald | The Honorable Linda Kerley, Mayor of the Town of Collierville, 160 North Main Street, Suite 850, Memphis, Tennessee 38103 | June 28, 2000 | 470263 E
Tennessee: Shelby | Unincorporated Areas | March 23, 2000, March 30, 2000, The Collierville Herald | The Honorable Jim Rout, Mayor of Shelby County, 160 North Main Street, Suite 850, Memphis, Tennessee 38103 | June 28, 2000 | 470214
Virginia: Warren | Town of Front Royal | February 1, 2000, February 8, 2000, Northern Virginia Daily | Mr. Richard Anzolut, Jr., Town of Front Royal Manager, P.O. Box 1650, Front Royal, Virginia 22630 | Jan. 27, 2000 | 510167 B

(Catalog of Federal Domestic Assistance No. 83.100, “Flood Insurance.”)

Dated: March 31, 2000.
Michael J. Armstrong,
Associate Director for Mitigation.

[FR Doc. 00-9066 Filed 4-11-00; 8:45 am]

BILLING CODE 6718-04-P